DEPARTMENT OF COMMERCE

National Oceanic and Atmospheric Administration

Coastal Impact Assistance Program: Availability of Environmental Assessment and Finding of No Significant Impact

AGENCY: National Oceanic and Atmospheric Administration, Department of Commerce.

ACTION: Notice of availability of Environmental Assessment and Finding of No Significant Impact on Approval of State Plans from Alabama, Alaska, California, Florida, Louisiana, Mississippi, and Texas under the Coastal Impact Assistance Program.

SUMMARY: Notice is hereby given of the availability of the Environmental Assessment (EA) and Finding of No Significant Impact on approval of State plans from Alabama, Alaska, California, Florida, Louisiana, Mississippi, and Texas under the Coastal Impact Assistance Program (CIAP). The Fiscal Year 2001 Appropriations Act for the Departments of Commerce, Justice, and State (Pub. L. 106-553) created the CIAP by amending the Outer Continental Shelf Lands Act. The CIAP will direct approximately $142 million to the outer continental shelf (OCS) oil and gas producing states of Alaska, Alabama, California, Florida, Louisiana, Mississippi, and Texas and the approximately 150 coastal political subdivisions within those states to help mitigate the impacts of OCS activities and protect coastal resources. The CIAP required these states to submit Coastal Impact Assistance Plans to the National Oceanic and Atmospheric Administration (NOAA) detailing how the funds will be expended. NOAA must approve the plans before disbursing funds.

Three alternatives are available to NOAA pertaining to the CIAP: approve the State plans; conditionally approve the State plans; and deny approval of the State plans. NOAA's preferred alternative is to approve the State plans. NOAA finds that the State plans meet the requirements of the CIAP legislation. This alternative will have a beneficial effect on the environment because it will fulfill the intent of the legislation by helping to mitigate impacts from outer continental shelf oil and gas activities. The requirements of 40 CFR parts 1500-1508 (Council on Environmental Quality (CEQ) regulations to implement the National Environmental Policy Act) apply to the preparation of this Environmental Assessment. Specifically, 40 CFR 1506.6 requires agencies to provide public notice of the availability of environmental documents. This notice is part of NOAA's action to comply with this requirement.

Copies of the Environmental Assessment and Finding of No Significant Impact may be found on the NOAA Web site at http://www.ocrm.nos.noaa.gov/cpd/ or may be obtained upon request from: John R. King, Acting Chief, Coastal Programs Division (N/ORM3), Office of Ocean and Coastal Resource Management, NOS, NOAA, 1305 East-West Highway, Silver Spring, Maryland, 20910, phone (301) 713-3155, x188, e-mail john.king@noaa.gov.

DATES: Individuals or organizations wishing to submit comments on the Environmental Assessment should do so by December 16, 2001.

ADDRESSES: Comments should be made to: John R. King, Acting Chief, Coastal Programs Division (N/ORM3), Office of Ocean and Coastal Resource Management, NOS, NOAA, 1305 East-West Highway, Silver Spring, Maryland, 20910, phone (301) 713-3155, x188, e-mail john.king@noaa.gov.

FOR FURTHER INFORMATION CONTACT: John R. King, Acting Chief, Coastal Programs Division (N/ORM3), Office of Ocean and Coastal Resource Management, NOS, NOAA, 1305 East-West Highway, Silver Spring, Maryland, 20910, phone (301) 713-3155, x188, e-mail john.king@noaa.gov.

Federal Domestic Assistance Catalog 11.419 Coastal Zone Management Program Administration.
Dated: November 6, 2001.
Alan Neuschatz,
Chief Financial Officer/Chief Information Officer, National Ocean Service, National Oceanic and Atmospheric Administration.

[FR Doc. 01-28540 Filed 11-13-01; 8:45 am]

BILLING CODE 3510-08-M